ENVIRONMENTAL PROTECTION AGENCY

[FRL-9649-9]

Radionuclide National Emission Standards for Hazardous Air Pollutants; Notice of Construction Approvals Issued

AGENCY: Environmental Protection Agency (EPA).

ACTION: Notice of availability.

SUMMARY: This notice announces the Construction Approvals issued in 2011 by EPA Region 8 for the construction or modification of sources subject to the Radionuclide National Emission Standards for Hazardous Air Pollutants (NESHAP).

FOR FURTHER INFORMATION CONTACT: For questions about the Approvals or this notice, contact Dr. Angelique Diaz at EPA by phone at: (303) 312-6344, or by email at: diaz.angelique@epa.gov. An electronic copy of each Approval is available through the Internet and can be found at www.epa.gov/region8/air.

SUPPLEMENTARY INFORMATION:

I. Background

The General Provisions to the Radionuclide NESHAP in 40 CFR part 61, subpart A, require a source owner or operator to submit an application for approval of construction or modification, pursuant to 40 CFR 61.07. Sources submitting applications in 2010 and 2011 submitted them under this provision and include sources subject to 40 CFR part 61, subpart B, National Emission Standards for Radon Emissions from Underground Uranium Mines (Subpart B) and 40 CFR part 61, subpart W, National Emission Standards for Radon Emissions from Operating Mill Tailings (Subpart W). EPA Region 8 issued three approvals in 2011 under 60 CFR 61.08. Today's notice comprises a summary of the three approvals.

The following summaries are for those Construction Approvals issued by EPA Region 8 during the 2011 calendar year; each summary provides the title of the Approval and a brief description. These summaries are provided solely to alert the public to possible items of interest and are not intended as substitutes for the full text of the Construction Approval. This notice does not change the status of any document with respect to whether it is “of nationwide scope or effect” for purposes of section 307(b)(1) of the Clean Air Act. For example, this notice does not make the Construction Approval for a particular source into a nationwide rule. Neither does it purport to make any document that was previously non-binding into a binding document.

Approval for Whirlwind Mine

On August 4, 2011, the EPA issued a Construction Approval to Energy Fuels for their Whirlwind Underground Uranium Mine. The mine is regulated under 40 CFR part 61, subpart B. The mine is expected to produce up to 50,000 tons per year of ore and over 100,000 tons over the lifetime of the mine. The Whirlwind Mine is located at 30100 5/10 Road, Gateway, Colorado 81522. The Approval and background document for the Approval are available on the Internet and can be found at: http://www.epa.gov/region8/air/whirlwind.html.

Approval for Piñon Ridge

On October 26, 2011, the EPA issued a Construction Approval to Energy Fuels for Tailings Cell A and the Phase I Evaporation Ponds at the proposed Piñon Ridge Uranium Mill. Tailings Cell A and the Phase I Evaporation Ponds are regulated under 40 CFR part 61, subpart W. The proposed Mill is situated in Montrose County, Colorado on an 880 acre private parcel, in Paradox Valley, approximately 12 miles west of Naturita. The Approval and background document, as well as EPA's response to public input, are available on the Internet and can be found at: http://www.epa.gov/region8/air/pinonridge.html.

Approval for Lost Creek

On December 20, 2011, the EPA issued a Construction Approval to Ur-Energy USA Inc., for the two holding ponds at the proposed Lost Creek In-Situ Recovery Project. The holding ponds at the Lost Creek facility are subject to 40 CFR part 61, subpart W. The proposed Lost Creek facility is located in Sweetwater County, Wyoming. The Approval and background document for the Approval are available on the Internet and can be found at: http://www.epa.gov/region8/air/lostcreek.html.

Authority: 42 U.S.C. 7401 et seq.

Dated: March 9, 2012.
Jonathan Edwards,
Acting Director, Office of Radiation and Indoor Air.

[FR Doc. 2012-6585 Filed 3-20-12; 8:45 am]

BILLING CODE 6560-50-P